SMALL BUSINESS ADMINISTRATION

Data Collection Available for Public Comments

ACTION: 60-day notice and request for comments.

SUMMARY: In accordance with the Paperwork Reduction Act of 1995, this notice announces the Small Business Administration's intentions to request approval on a new and/or currently approved information collection.

DATES: Submit comments on or before December 23, 2019.

ADDRESSES: Send all comments regarding whether this information collection is necessary for the proper performance of the function of the agency, whether the burden estimates are accurate, and if there are ways to minimize the estimated burden and enhance the quality of the collection, to Sharon Gurley, Director Program Review, Office of Government Contracting, Small Business Administration, 409 3rd Street, 8th Floor, Washington, DC 20416.

FOR FURTHER INFORMATION CONTACT: Sharon Gurley, Director Program Review, 202-205-7084, sharon.gurley@sba.gov, Curtis B. Rich, Management Analyst, 202-205-7030 curtis.rich@sba.gov.

SUPPLEMENTARY INFORMATION: The Small Business Administration needs to collect this information to determine an applicant's eligibility for admission into the 8(a) Business Development (BD) Program and for continued eligibility to participate in the Program. SBA also uses some of the information for an annual report to Congress on the 8(a) BD Program.

Respondents can be individuals and firms making applications to the 8(a) BD Program, or respondents can be individuals and Participant firms revising information related to the 8(a) BD Program Annual Review.

Summary of Information Collection:

Title: 8(A) SBD Paper and Electronic Application”.

Description of Respondents:

Form Number's: 1010-NHO, 1010-Business, 1010-CDC, 1010-AIT, 1010-ANC, 1010-IND, 1010—individual.

Annual Responses: 60,070.

Annual Burden: 15,248.

Curtis Rich,
Management Analyst.

[FR Doc. 2019-22927 Filed 10-21-19; 8:45 am]

BILLING CODE P